GOVERNMENT PRINTING OFFICE

Depository Library Council to the Public Printer; Meeting

The Depository Library Council to the Public Printer (DLC) will meet on Sunday, October 20, 2002, through Wednesday, October 23, 2002, in Arlington, Virginia. The sessions will take place from 7 p.m. until 10 p.m. on Sunday, 8:30 a.m. until 5 p.m. on Monday and Tuesday and from 8:30 a.m. until 3:30 p.m. on Wednesday. The meeting will be held at the Holiday Inn Rosslyn at Key Bridge, 1900 North Fort Myer Drive, Arlington, Virginia. The purpose of this meeting is to discuss the Federal Depository Library Program. All sessions are open to the public.

A limited number of rooms are being held for Council attendees at the rate of $150 (plus tax). Reservations can be made by dialing toll free, 1-800-368-3408 or the hotel directly at 703-807-2000. The rate is good for the meeting dates as well as the three (3) days prior to the meeting and the three (3) days after the meeting. To receive the Government rate, you must make your reservation no later than September 20, 2002, and mention Code: DLC. After that date, rooms will be subject to availability at the best obtainable rate.

Michael F. DiMario,
Public Printer.

[FR Doc. 02-23341 Filed 9-12-02; 8:45 am]

BILLING CODE 1520-01-P